DEPARTMENT OF HEALTH AND HUMAN SERVICES

National Institutes of Health

Office of the Director, National Institutes of Health; Amended Notice of Meeting

Notice is hereby given of a change in the meeting of the Office of Research Infrastructure Programs Special Emphasis Panel, October 15, 2013, 08:00 a.m. to October 15, 2013, 05:30 p.m., National Institutes of Health, One Democracy Plaza, 6701 Democracy Boulevard, Bethesda, MD, 20892, which was published in the Federal Register on September 16, 2013, 78 FR 56903.

The meeting date is changed from October 15, 2013 to November 14, 2013. The meeting is closed to the public.

Dated: October 30, 2013.
David Clary,
Program Analyst, Office of Federal Advisory Committee Policy.

[FR Doc. 2013-26414 Filed 11-4-13; 8:45 am]

BILLING CODE 4140-01-P